DEPARTMENT OF HEALTH AND HUMAN SERVICES

Centers for Disease Control and Prevention

[Program Announcement 04129]

Improving the Effectiveness of the Diagnosis and Treatment of Tuberculosis and Multi-Drug Resistant Tuberculosis in the Philippines; Notice of Intent to Fund Single Eligibility Award

A. Purpose

The Centers for Disease Control and Prevention (CDC) announces the intent to fund fiscal year (FY) 2004 funds for a cooperative agreement program to support and ensure the implementation of tuberculosis (TB) control activities that are designed to develop, establish, and coordinate systems and procedures to address the obstacles to achieving control of TB and multi-drug resistant tuberculosis (MDR-TB). The Catalog of Federal Domestic Assistance number for this program is 93.116.

B. Eligible Applicant

Assistance will be provided only to Makati Medical Center (MMC) located in Manila, the Philippines.

The MMC is the only qualified organization that has the technical and administrative capacity to conduct the specific set of activities requested to support CDC TB and MDR-TB prevention and control activities in the Philippines under this cooperative agreement because:

1. The MMC is uniquely positioned, in terms of legal authority, ability, track record, infrastructure and credibility in the Philippines to develop and support TB and MDR-TB control activities in both public and non-governmental organization sites throughout the country.

2. The MMC has already established a framework and mechanisms to develop and implement TB and MDR-TB treatment and control activities in the Philippines, enabling it to immediately become engaged in the activities listed in this announcement.

3. The MMC has demonstrated its ability to coordinate and implement TB treatment and control activities including MDR-TB and TB/HIV co-infection within the country.

4. The MMC has a unique and unparalleled relationship with the Department of Health (DOH), NTP, the Tropical Disease Foundation (TDF), and the PhilCAT, based on a rich history of collaboration.

5. The MMC Directly Observed Treatment Short Course (DOTS) Clinic has been in existence since February 1999, in response to the need for public-private partnership in the management of TB patients in the Philippines. The clinic is a collaboration of the MMC and TDF representing the private sector, and the DOH and Barangay San Lorenzo (BSL) representing the public sector.

6. The MMC was approved as the first pilot project worldwide to undertake DOTS-Plus by the Green Light Committee (GLC), a subgroup of the Scientific Working Group on Multi-Drug Resistant Tuberculosis of the WHO. The MMC DOTS-Plus clinic is the only facility in the Philippines providing treatment to MDR-TB patients.

7. The MMC has the ability to collect information, train staff and advocate for policy based on the experiences learned implementing DOTS-Plus activities.

8. The specific services that the MMC will deliver are directly associated with, and compliment, other ongoing CDC prevention strategies and activities in the Philippines.

C. Funding

Approximately $100,000 is available in FY 2004 to fund this award. It is expected that the award will begin on or before June 1, 2004, and will be made for a 12-month budget period within a project period of up to five years. Funding estimates may change.

D. Where to Obtain Additional Information

For general comments or questions about this announcement, contact: Technical Information Management, CDC Procurement and Grants Office, 2920 Brandywine Road, Atlanta, GA 30341-4146, Telephone: 770-488-2700.

For technical questions about this program, contact: Michael Qualls, Project Officer, Division of Tuberculosis Elimination, National Center for HIV, STD, and TB Prevention, Centers for Disease Control and Prevention (CDC), 1600 Clifton Road Mailstop E-10, Atlanta, Georgia 30333, Telephone: 404-639-8488, E-mail: MQualls@cdc.gov.

For budget assistance, contact: Steward Nichols, Grants Management Specialist, CDC Procurement and Grants Office, 2920 Brandywine Road, Atlanta, Georgia 30341, Telephone: 770-488-2788, E-mail: SNichols1@cdc.gov.

Dated: April 20, 2004.
William P. Nichols,
Acting Director, Procurement and Grants Office, Centers for Disease Control and Prevention.

[FR Doc. 04-9493 Filed 4-26-04; 8:45 am]

BILLING CODE 4163-18-P